DEPARTMENT OF STATE

[Public Notice 6268]

Culturally Significant Objects Imported for Exhibition Determinations: “Tutankhamun and the Golden Age of the Pharaohs”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq. ; 22 U.S.C. 6501 note, et seq. ), Delegation of Authority No. 234 of October 1, 1999, Delegation of Authority No. 236 of October 19, 1999, as amended, and Delegation of Authority No. 257 of April 15, 2003 [68 FR 19875], I hereby determine that the objects to be included in the exhibition “Tutankhamun and the Golden Age of the Pharaohs,” imported from abroad for temporary exhibition within the United States, are of cultural significance. The objects are imported pursuant to loan agreements with the foreign owners or custodians. This exhibit toured the United States from 2005 to 2007, left for foreign exhibition, and now returns to new venues with slightly changed objects. I also determine that the exhibition or display of the exhibit objects at the Dallas Museum of Art from on or about October 5, 2008, until on or about May 15, 2009; at the M. H. de Young Memorial Museum, San Francisco, from on or about June 20, 2009, to on or about March 15, 2010; at the Brooklyn Museum of Art, New York, from on or about April 23, 2010, to on or about January 1, 2011, and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/453-8048). The address is U.S. Department of State, SA-44, 301 4th Street, SW. Room 700, Washington, DC 20547-0001.

Dated: June 12, 2008.
C. Miller Crouch,
Principal Deputy Assistant Secretary for Educational and Cultural Affairs, Department of State.

[FR Doc. E8-13884 Filed 6-18-08; 8:45 am]

BILLING CODE 4710-05-P